DEPARTMENT OF TRANSPORTATION

Federal Aviation Administration

14 CFR Part 39

[Docket No. FAA-2025-0485; Project Identifier AD-2024-00670-A]

RIN 2120-AA64

Airworthiness Directives; Honda Aircraft Company LLC Airplanes

AGENCY: Federal Aviation Administration (FAA), DOT.

ACTION: Notice of proposed rulemaking (NPRM).

SUMMARY: The FAA proposes to supersede Airworthiness Directive (AD) 2021-22-12, which applies to certain Honda Aircraft Company LLC (Honda) Model HA-420 airplanes. AD 2021-22-12 requires removing and cleaning the inner diameter of the flap control pushrods and repetitively applying corrosion inhibiting compound (CIC) to this area. Since the FAA issued AD 2021-22-12, new flap control pushrods have been approved that are more corrosion resistant and do not require repetitive CIC applications. This proposed AD would retain all actions of AD 2021-22-12 and would require replacing the flap control pushrods with improved design pushrods for all airplanes affected by AD 2021-22-12, as well as for other airplanes not affected by AD 2021-22-12. The FAA is proposing this AD to address the unsafe condition on these products.

DATES: The FAA must receive comments on this proposed AD by May 27, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0485; or in person at Docket Operations between 9 a.m. and 5 p.m., Monday through Friday, except Federal holidays. The AD docket contains this NPRM, any comments received, and other information. The street address for Docket Operations is listed above.

Material Incorporated by Reference:

• For Honda Aircraft Company material identified in this proposed AD, contact Honda, 6430 Ballinger Road, Greensboro, NC 27410; phone: (336) 662-0246; website: hondajet.com.

• You may view this material at the FAA, FAA, Airworthiness Products Section, Operational Safety Branch, 901 Locust, Kansas City, MO 64106. For information on the availability of this material at the FAA, call (817) 222-5110.

FOR FURTHER INFORMATION CONTACT: Kelly Fichter, Aviation Safety Engineer, FAA, 1701 Columbia Avenue, College Park, GA 30337; phone: (404) 474-5544; email: 9-ASO-ATLACO-ADS@faa.gov.

SUPPLEMENTARY INFORMATION:

Comments Invited

The FAA invites you to send any written relevant data, views, or arguments about this proposal. Send your comments to an address listed under the ADDRESSES section. Include “Docket No. FAA-2025-0485; Project Identifier AD-2024-00670-A” at the beginning of your comments. The most helpful comments reference a specific portion of the proposal, explain the reason for any recommended change, and include supporting data. The FAA will consider all comments received by the closing date and may revise this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kelly Fichter, Aviation Safety Engineer, FAA, 1701 Columbia Avenue, College Park, GA 30337. Any commentary that the FAA receives which is not specifically designated as CBI will be placed in the public docket for this rulemaking.

Background

The FAA issued AD 2021-22-12, Amendment 39-21785 (86 FR 60753, November 4, 2021) (AD 2021-22-12), for certain serial-numbered Honda Model H-420 airplanes. AD 2021-22-12 was prompted by a report that the flap pushrod assemblies are susceptible to corrosion. AD 2021-22-12 requires removing and cleaning the inner diameter of the flap control pushrods and repetitively applying CIC to this area. The agency issued AD 2021-22-12 to prevent failure of a flap control pushrod, which could result in uncontrolled and un-annunciated flap asymmetry with consequent loss of control of the airplane.

Actions Since AD 2021-22-12 Was Issued

Since the FAA issued AD 2021-22-12, new flap control pushrods have been approved that are more corrosion resistant and do not require repetitive CIC applications. AD 2021-22-12 was issued as an interim action until a design fix was developed, approved, and available. These new flap control pushrods are the design fix. Installing new corrosion resistant flap control rods eliminates the CIC applications required by AD 2021-22-12.

This proposed AD would expand the applicability to include airplanes with serial number 42000211, 42000212, and 42000215 through 42000287, as these airplanes also have an affected flap pushrod assembly installed. These airplanes were not included in AD 2021-22-12 because operators were required to repetitively apply CIC as specified in the version of the instructions for continued airworthiness that was delivered with the airplane.

FAA's Determination

The FAA is issuing this NPRM after determining that the unsafe condition described previously is likely to exist or develop on other products of the same type design.

Material Incorporated by Reference Under 1 CFR Part 51

The FAA reviewed Honda Aircraft Company Alert Service Bulletin No. SB-420-27-009, dated October 1, 2024, which specifies procedures for replacing the flap control pushrod assemblies with improved design pushrod assemblies.

This proposed AD would also require Honda Aircraft Company Service Bulletin No. SB-420-27-008, dated August 31, 2021, which the Director of the Federal Register approved for incorporation by reference as of November 19, 2021 (86 FR 60753, November 4, 2021).

This material is reasonably available because the interested parties have access to it through their normal course of business or by the means identified in the ADDRESSES section.

Proposed AD Requirements in This NPRM

This proposed AD would retain all of the requirements of AD 2021-22-12. This proposed AD would also expand the applicability to include additional airplanes and require replacing the flap control pushrod assemblies with new corrosion-resistant pushrod assemblies as terminating action for the repetitive CIC applications required by AD 2021-22-12.

Costs of Compliance

The FAA estimates that this AD, if adopted as proposed, would affect 107 airplanes of U.S. registry.

The FAA estimates the following costs to comply with this proposed AD:

Estimated Costs
Action | Labor cost | Parts cost | Cost per product | Cost on U.S. operators
Remove, clean, and apply CIC to the flap control pushrods (retained from AD 2021-22-12) | 22 work-hours × $85 per hour = $1,870 | $70 | $1,940 | $85,360 (44 airplanes).
Reapply CIC every 90 days (cost for each time) (retained from AD 2021-22-12) | 1 work-hour × $85 per hour = $85 | 70 | 155 | $6,820 (44 airplanes).
Replace the left and right inboard flap pushrod assemblies | 22 work-hours × $85 per hour = $1,870 | 5,168 | 7,038 | $753,066 (107 airplanes).

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-22-12, Amendment 39-21785 (86 FR 60753, November 4, 2021); and

b. Adding the following new airworthiness directive:

Honda Aircraft Company LLC: Docket No. FAA-2025-0485; Project Identifier AD-2024-00670-A.

(a) Comments Due Date

The FAA must receive comments on this airworthiness directive (AD) by May 27, 2025.

(b) Affected ADs

This AD replaces AD 2021-22-12, Amendment 39-21785 (86 FR 60753, November 4, 2021) (AD 2021-22-12).

(c) Applicability

This AD applies to the following Honda Aircraft Company LLC Model HA-420 airplanes, certificated in any category:

(1) Group 1 airplanes: Serial numbers 42000153 through 42000158 inclusive and 42000160 through 42000206 inclusive; and

(2) Group 2 airplanes: Serial numbers 42000211, 42000212, and 42000215 through 42000287 inclusive.

(d) Subject

Joint Aircraft System Component (JASC) Code 2752, Trailing Edge Flap Actuator.

(e) Unsafe Condition

This AD was prompted by a report that the flap pushrod assemblies are susceptible to corrosion. The FAA is issuing this AD to prevent failure of the flap control pushrod. The unsafe condition, if not addressed, could result in uncontrolled and un-annunciated flap asymmetry with consequent loss of control of the airplane.

(f) Compliance

Comply with this AD within the compliance times specified, unless already done.

(g) Retained Actions From AD 2021-22-12 for Group 1 Airplanes

(1) Within 90 days after November 19, 2021 (the effective date of AD 2021-22-12), or 18 months after issuance of the first standard certificate of airworthiness, whichever occurs later: Remove, clean, apply corrosion inhibiting compound (CIC) to, and reinstall the left and right inboard and outboard flap pushrod assemblies by following steps 3.0(3) through 3.0(6) of the Accomplishment Instructions in Honda Aircraft Company Service Bulletin No. SB-420-27-008, dated August 31, 2021.

(2) Within 90 days or 300 hours time-in-service (TIS), whichever occurs first after accomplishing the actions required by paragraph (g)(1) of this AD, and thereafter at intervals not to exceed 90 days or 300 hours TIS, whichever occurs first: Reapply CIC by following step 3.0(5)(a) through (c) of the Accomplishment Instructions in Honda Aircraft Company Service Bulletin No. SB-420-27-008, dated August 31, 2021.

(h) New Required Actions for Group 1 and Group 2 Airplanes

Within 2 years after the effective date of this AD, replace the flap control pushrod assemblies with new (zero hours TIS) flap control pushrod assemblies in accordance with Steps (1) through (3) of the Accomplishment Instructions in Honda Aircraft Company Alert Service Bulletin No. SB-420-27-009, dated October 1, 2024. For Group 1 airplanes, this replacement terminates the requirements in paragraphs (g)(1) and (2) of this AD.

(i) Installation Prohibition

As of the effective date of this AD, do not install flap control pushrod assembly part number HJ1-12754-875-001, HJ1-12754-875-003, HJ1-12754-885-001, or HJ1-12754-885-003 on any airplane.

(j) No Reporting Requirement

Although Honda Aircraft Company Service Bulletin No. SB-420-27-008, dated August 31, 2021, and Alert Service Bulletin No. SB-420-27-009, dated October 1, 2024, specify to submit certain information to the manufacturer, this AD does not include those requirements.

(k) Alternative Methods of Compliance (AMOCs)

(1) The Manager, East Certification Branch, FAA, has the authority to approve AMOCs for this AD, if requested using the procedures found in 14 CFR 39.19. In accordance with 14 CFR 39.19, send your request to your principal inspector or local Flight Standards District Office, as appropriate. If sending information directly to the manager of the East Certification Branch, send it to the attention of the person identified in paragraph (l) of this AD and email to: AMOC@faa.gov.

(2) Before using any approved AMOC, notify your appropriate principal inspector, or lacking a principal inspector, the manager of the local flight standards district office/certificate holding district office.

(l) Additional Information

(1) For more information about this AD, contact Kelly Fichter, Aviation Safety Engineer, FAA, 1701 Columbia Avenue, College Park, GA 30337; phone: (404) 474-5544; email: 9-ASO-ATLACO-ADS@faa.gov.

(2) Material identified in this AD that is not incorporated by reference is available at the address specified in paragraph (m)(5) of this AD.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(3) The following material was approved for IBR on [DATE 35 DAYS AFTER PUBLICATION OF THE FINAL RULE].

(i) Honda Aircraft Company Alert Service Bulletin No. SB-420-27-009, dated October 1, 2024.

(ii) [Reserved]

(4) The following material was approved for IBR on November 19, 2021 (86 FR 60753, November 4, 2021).

(i) Honda Aircraft Company Service Bulletin No. SB-420-27-008, dated August 31, 2021.

(ii) [Reserved]

(5) For Honda Aircraft Company material identified in this AD, contact Honda Aircraft Company LLC, 6430 Ballinger Road, Greensboro, NC 27410; phone: (336) 662-0246; website: hondajet.com.

(6) You may view this material at the FAA, Airworthiness Products Section, Operational Safety Branch, 901 Locust, Kansas City, MO 64106. For information on the availability of this material at the FAA, call (817) 222-5110.

(7) You may view this material at the National Archives and Records Administration (NARA). For information on the availability of this material at NARA, visit www.archives.gov/federal-register/cfr/ibr-locations or email fr.inspection@nara.gov.

Issued on April 1, 2025.
Steven W. Thompson,
Acting Deputy Director, Compliance & Airworthiness Division, Aircraft Certification Service.

[FR Doc. 2025-06070 Filed 4-10-25; 8:45 am]

BILLING CODE 4910-13-P